DEPARTMENT OF ENERGY

Federal Energy Regulatory Commission

[Docket No. RP97-288-023]

Transwestern Pipeline Company; Notice of Compliance Filing

July 12, 2002.

Take notice that on July 8, 2002, Transwestern Pipeline Company (Transwestern) tendered for filing as part of its FERC Gas Tariff, Second Revised Volume No. 1, the following tariff sheets to become effective June 1, 2002:

Third Revised Sheet No. 9A

First Revised Sheet No. 20D

Thirteenth Revised Sheet No. 29

Transwestern states that the above sheets are being filed in compliance with the Commission's June 28, 2002 order in Docket No. RP97-288-020. Additionally, Transwestern states it is adding the requirement by the Commission that Transwestern file the term of the negotiated rate service agreement in its tariff. On June 28, 2002, Transwestern states, it filed tariff sheets containing information related to negotiated rate agreements with Calpine Energy Services, L.P. and Sempra Energy Trading Corp. That filing included the term on the tariff rate sheets for all current negotiated rate service agreements.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-18101 Filed 7-17-02; 8:45 am]

BILLING CODE 6717-01-P